CHEMICAL SAFETY AND HAZARD INVESTIGATION BOARD

Sunshine Act Meeting

TIME AND DATE: March 5, 2021, 2:00 p.m. EDT.

PLACE: Public Meeting Hosted via Audio Conference.

STATUS: Open to the public.

MATTERS TO BE CONSIDERED: The Chemical Safety and Hazard Investigation Board (CSB) will convene a public meeting on Friday, March 5, 2021, at 2:00 p.m. EDT. The Board will review the CSB's progress in meeting its mission and highlight safety product newly released through investigations and safety recommendations.

Additional Information

This meeting will only be available via the following call-in number. If you require a translator or interpreter, please notify the individual listed below as the “Contact Person for Further Information,” at least three business days prior to the meeting.

Audience members should use the following information to access the meeting:

Dial-In: 1 (800) 697-5978 Audience US Toll Free; 1 (630) 691-2750 Audience US Toll

Passcode: 6470 316#

Please dial the phone number five minutes prior to the start of the conference call and enter your passcode.

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Contact Person for Further Information

Hillary Cohen, Communications Manager, at public@csb.gov or (202) 446-8094. Further information about this public meeting can be found on the CSB website at: www.csb.gov.

Dated: February 24, 2021.
Sabrina Morris,
Board Affairs Specialist, Chemical Safety and Hazard Investigation Board.

[FR Doc. 2021-04213 Filed 2-25-21; 11:15 am]

BILLING CODE 6350-01-P